DEPARTMENT OF TRANSPORTATION

Federal Aviation Administration

14 CFR Part 39

[Docket No. FAA-2006-24733; Directorate Identifier 2005-SW-08-AD]

RIN 2120-AA64

Airworthiness Directives; Eurocopter France Model SA341G, SA342J, and SA-360C Helicopters

AGENCY: Federal Aviation Administration, DOT.

ACTION: Notice of proposed rulemaking (NPRM).

SUMMARY: This amendment proposes superseding an existing airworthiness directive (AD) for the specified Eurocopter France (ECF) model helicopters that currently requires replacing each affected main rotor head torsion tie bar (tie bar) with an airworthy tie bar and revising the limitations section of the maintenance manual by adding life limits for certain tie bars. This action would retain the current requirements and reduce life limits of another part-numbered tie bar. This proposal is prompted by the FAA determination, after reviewing the manufacturer's data, that another part-numbered tie bar should be included in the applicability of the AD. The actions specified by the proposed AD are intended to prevent failure of a tie bar, loss of a main rotor blade, and subsequent loss of control of the helicopter.

DATES: Comments must be received on or before July 10, 2006.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from American Eurocopter Corporation, 2701 Forum Drive, Grand Prairie, Texas 75053-4005, telephone (972) 641-3460, fax (972) 641-3527.

You may examine the comments to this proposed AD in the AD docket on the Internet at http://dms.dot.gov.

Examining the Docket

You may examine the docket that contains this AD, any comments, and other information on the Internet at http://dms.dot.gov, or at the Docket Management System (DMS), U.S. Department of Transportation, 400 Seventh Street SW., Room PL-401, on the plaza level of the Nassif Building, Washington, DC.

FOR FURTHER INFORMATION CONTACT: Gary Roach, Aviation Safety Engineer, FAA, Rotorcraft Directorate, Rotorcraft Standards Staff, Fort Worth, Texas 76193-0111, telephone (817) 222-5130, fax (817) 222-5961.

SUPPLEMENTARY INFORMATION:

Comments Invited

We invite you to submit any written data, views, or arguments regarding this proposed AD. Send your comments to the address listed under the caption ADDRESSES. Include the docket number “FAA-2006-24733, Directorate Identifier 2005-SW-08-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78) or you may visit http://dms.dot.gov.

Discussion

On April 11, 2002, we issued AD 2002-08-16 (67 FR 19640, April 23, 2002), Amendment 39-12725, to supersede AD 2001-19-51 (66 FR 58663, November 23, 2001), Amendment 39-12508. AD 2001-19-51 was published after we issued Emergency AD 2001-19-51 on September 21, 2001. AD 2001-19-51 requires removal of certain part-numbered tie bars and adds a life limit for other part-numbered tie bars. AD 2002-08-16 retained requirements removing certain part-numbered tie bars and further reduced the life of the tie bars. Those actions were prompted by an accident involving an ECF Model SA341G helicopter due to the failure of a tie bar. The ECF Model SA342J and SA-360C helicopters have tie bars identical to the one that failed on the ECF Model SA341G helicopter. The requirements of the current AD are intended to prevent failure of a tie bar, loss of a main rotor blade, and subsequent loss of control of the helicopter.

Since issuing that AD, the Direction Generale De L'Aviation Civile (DGAC), the airworthiness authority for France, notified the FAA of another affected tie-bar, part number (P/N) 704A33-633-270, and additional flight restrictions for the new-affected tie bar.

Also, since issuing that AD, ECF has issued Alert Service Bulletin No. 01.29, dated December 4, 2002 (ASB), for the Models SA341G and SA342J helicopters. The ASB cancels Alert Telex (AT) No. 01.28, dated August 7, 2001, and supersedes AT 01.29 R1, dated December 11, 2001. The ASB specifies additional flight restrictions for the affected tie bars and adds tie bar, P/N 704A33-633-270, to the ASB effectivity. The DGAC classified this ASB as mandatory and issued AD 2001-587-041(A) R2, dated January 8, 2003, for the Model SA341/342 helicopters to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

This previously described unsafe condition is likely to exist or develop on other helicopters of these same type designs. Therefore, the proposed AD would supersede AD 2002-08-16 to retain the same requirements and would add tie bar, P/N 704A33-633-270, to the applicability, remove it from service within 600 hours TIS or 2 years, whichever occurs first, and revise the limitations section of the maintenance manual accordingly.

We estimate that this proposed AD would affect 33 helicopters of U.S. registry. The proposed actions would take about 8 work hours per helicopter to replace the tie bars at an average labor rate of $65 per work hour. Required parts would cost about $13,335 per helicopter, assuming all 3 tie bars are replaced. Based on these figures, we estimate the total cost impact of the proposed AD on U.S. operators to be $457,215 ($13,855 per helicopter).

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12725 (67 FR 19640, April 23, 2002), and by adding a new airworthiness directive (AD), to read as follows:

Eurocopter France: Docket No. FAA-2006-24733; Directorate Identifier 2005-SW-08-AD. Supersedes AD 2002-08-16, Amendment 39-12725, Docket No. 2001-SW-72-AD.

Applicability: Model SA341G, SA342J, and SA-360C helicopters with a main rotor head torsion tie bar (tie bar), part number (P/N) 341A31-4904-00, -01, -02, -03; 341A31-4933-00, -01; 360A31-1097-02, -03; or 704A33-633-270, installed, certificated in any category.

Compliance: Required as indicated, unless accomplished previously.

To prevent failure of a tie bar, loss of a main rotor blade, and subsequent loss of control of the aircraft, do the following:

(a) Before further flight, remove each tie bar, P/N 341A31-4904-00, -01, -02, or -03; and 360A31-1097-02 or -03; from service.

(b) For each tie bar, P/N 341A31-4933-00 or -01:

(1) Before further flight, determine the date of initial installation on any helicopter using the date of manufacture if the date of installation cannot be determined.

(2) For each tie bar with 7 or more years time-in-service (TIS) since initial installation on any helicopter, remove within 5 hours TIS.

(3) For each tie bar manufactured before 1995 with less than 7 years TIS since initial installation on any helicopter, remove before accumulating 7 years TIS, within 300 hours TIS, or within 1 year, whichever occurs first.

(4) For each tie bar manufactured in 1995 or subsequent years with less than 7 years TIS since initial installation on any helicopter, remove before accumulating 7 years TIS since initial installation, within 600 hours TIS, or within 2 years, whichever occurs first.

Note 1: Eurocopter France (ECF) Alert Telex AT 01.39 R1, dated December 11, 2001, pertains to the subject of this AD for the Model SA-360C helicopters.

(c) Remove each tie bar, P/N 704A33-633-270, within 600 hours TIS, or within 2 years, whichever occurs first.

Note 2: ECF Alert Service Bulletin 01.29, dated December 4, 2002, pertains to the subject of this AD for the Models SA341G and SA342J helicopters.

(d) This AD revises the Limitations section of the maintenance manual by adding to the current life limit of 5000 hours TIS for tie bars, P/N 341A31-4933-00 and -01 the following additional alternative life limits:

(1) Seven years TIS from initial installation on any helicopter, or

(2) For tie bars manufactured before 1995, a life limit of 300 hours TIS or 1 year, or

(3) For P/N 341A31-4933-00 and -01, for tie bars manufactured in 1995 or subsequent years, a life limit of 600 hours TIS or 2 years, whichever occurs first.

(e) This AD revises the Limitations section of the maintenance manual by reducing the current life limit of 1000 hours TIS for tie bar, P/N 704A33-633-270, to a life limit of 600 hours TIS or 2 years, whichever occurs first.

(f) Special flight permits will not be issued.

Note 3: The subject of this AD is addressed in Direction Generale De L'Aviation Civile (France) ADs 2001-588-047(A) R1, dated December 26, 2001, and 2001-587-041(A) R2, dated January 8, 2003.

Issued in Fort Worth, Texas, on April 28, 2006.
Mark R. Schilling,
Acting Manager, Rotorcraft Directorate, Aircraft Certification Service.

[FR Doc. E6-7096 Filed 5-9-06; 8:45 am]

BILLING CODE 4910-13-P